DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by February 16, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: James R. Brann, Houston, TX, PRT-112828.

The applicant requests a permit to import the sport-hunted trophy of one male bontebok (Damaliscus pygargus pygargus) culled from a captive herd maintained under the management program of the Republic of South Africa, for the purpose of enhancement of the survival of the species.

Applicant: Robert E. Mann, Kingwood, TX, PRT-114026.

The applicant requests a permit to import the sport-hunted trophy of one male bontebok (Damaliscus pygargus pygargus) culled from a captive herd maintained under the management program of the Republic of South Africa, for the purpose of enhancement of the survival of the species.

Applicant: Paul Page, Midland, TX, PRT-115656.

The applicant requests a permit to import the sport-hunted trophy of one male bontebok (Damaliscus pygargus pygargus) culled from a captive herd maintained under the management program of the Republic of South Africa, for the purpose of enhancement of the survival of the species.

Applicant: Hawthorn Corporation, Grayslake, IL, PRT-087703, 016881, 088950, 088955, 088956, 088957, 088958, 088959, and 088960.

The applicant requests renewal of permits to export captive born tigers (Panthera tigris) to worldwide locations for the purpose of enhancement of the species through conservation education. The permit numbers and animals are: 087703, Massey; 016881, Terra; 088950, China; 088955, Diego; 088956, Frieda; 088957, Shaman; 088958, Shiua; 088959, Natari; and 088960, Darsha. This notification covers activities to be conducted by the applicant over a three-year period and the import of any potential progeny born while overseas.

Applicant: Jacksonville Zoological Society, Jacksonville, FL, PRT-080458.

The applicant requests a permit to import three harpy eagles (Harpia harpyja) from the government of Guyana, for the purpose of enhancement of the species through captive propagation and conservation education.

Dated: December 16, 2005.
Michael L. Carpenter,
Senior Permit Biologist, Branch of Permits, Division of Management Authority.

[FR Doc. E6-359 Filed 1-13-06; 8:45 am]

BILLING CODE 4310-55-P